DEPARTMENT OF JUSTICE

Antitrust Division

Notice Pursuant to the National Cooperative Research and Production Act of 1993—Space Enterprise Consortium

Notice is hereby given that, on April 29, 2020, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, APT Research, Inc., Huntsville, AL; Barber-Nichols, Inc., Arvada, CO; CAE USA Mission Solutions, Inc., Williamsburg, VA; Capella Space Corp., San Francisco, CA; CDW Government LLC, Vernon Hills, IL; Channel Logistics, Camden, NJ; Cubic Defense Applications, Inc., San Diego, CA; Data Intelligence Technologies, Inc., Arlington, VA; Enlighten IT Consulting, Linthicum Heights, MD; GAN Corporation, Huntsville, AL; Jasper Solutions, Inc., Huntington Station, NY; Logistics Management Institute, Tysons, VA; Metis Technology Solutions, Inc., Albuquerque, NM; Mission1st Group, Inc., Arlington, VA; Novo Space, Co., Cambridge, MA; Optimal Satcom, Inc., Herndon, VA; Optimal Solutions and Technologies (OST, Inc.), McLean, VA; Palski & Associates, Inc., Colorado Springs, CO; Polaris Alpha Advanced Systems, Inc., Fredericksburg, VA; PreTalen, Ltd., Beavercreek, OH; Quadrus Corporation, Huntsville, AL; Radix Metasystems, Inc., Aurora, CO; Robots In Space LLC, Annapolis, MD; RunSafe Security, Inc., McLean, VA; Stephenson Stellar Corporation, Baton Rouge, LA; Stratolaunch, LLC, Seattle, WA; Technical Systems Integrators, Inc., Longwood, FL; The University of Colorado Boulder, Boulder, CO; Trusted Space, Inc., Leesburg, VA; Virsec Systems, Inc., San Jose, CA; WPI Services, LLC DBA Systecon North America, Juno Beach, FL; Xono Space Systems, San Mateo, CA; Zivaro, Inc., Denver, CO have been added as parties to this venture.

Also, Bryce Space and Technology, LLC, Alexandria, VA; Cubic Aerospace LLC, Reston, VA; Cummings Aerospace, Inc., Huntsville, AL; Globecomm Systems, Inc., Hauppauge, NY; InnoSys, Inc., Salt Lake City, UT; Koolock, Inc., Moffett Field, CA; L-3 Communications Cincinnati Electronics Corporation, Mason, OH; Libration Systems Management, Inc., Albuquerque, NM; Lunar Resources, Inc., Houston, TX; MainStem LLC, Fulton, MD; Matterwaves Antenna Technology, Co., Torrance, CA; Measurement Analysis Corporation, Torrance, CA; NanoRacks, LLC, Houston, TX; NXTRAC, Rolling Hills Estates, CA; Orbit Logic Incorporated, Greenbelt, MD; Phoebus Optoelectronics LLC, Potsdam, NY; Quantum Dimension, Inc., Huntington Beach, CA; Scorpius Space Launch Company, Torrance, CA; Silicon Space Technologies, Austin, TX; DBA VORAGO Technologies, Austin, TX; Southern Aerospace Company, LLC, Madison, AL; Space Vector Corporation, Chatsworth, CA; Spire Global, Inc., San Francisco, CA; Stratolaunch Federal, Inc., Seattle, WA; Systems & Materials Research Corporation, Austin, TX; Ursa Major Technologies, Inc., Berthoud, CO; Vector Launch, Inc., Tucson, AZ; Vulcan Wireless, Inc., Carlsbad, CA; CAWASK Engineering, Inc., Cameron Park, CA have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on January 31, 2020. A notice was published in the Federal Register pursuant to Section 6(b) of the Act on February 27, 2020 (85 FR 11393).

Suzanne Morris,
Chief, Premerger and Division Statistics Unit, Antitrust Division.

[FR Doc. 2020-10727 Filed 5-18-20; 8:45 am]

BILLING CODE 4410-11-P